DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than May 5, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Client-Level Data Reporting System, OMB No. 0915-0323—Revision.

Abstract: The Ryan White HIV/AIDS Program's client-level data reporting system, entitled the Ryan White HIV/AIDS Program Services Report or the Ryan White Services Report (RSR), was created in 2009 by the Health Resources and Services Administration (HRSA). It is designed to collect information from grantees as well as their subcontracted service providers, funded under Parts A, B, C, D, and F Minority AIDS Initiative of Title XXVI of the Public Health Service Act, as amended by the Ryan White HIV/AIDS Treatment Extension Act of 2009 (Ryan White HIV/AIDS Program). The Ryan White HIV/AIDS Program provides entities funded by the program with flexibility to respond effectively to the changing HIV epidemic, with an emphasis on providing life-saving and life-extending services for people living with HIV across this country, as well as targeting resources to areas that have the greatest needs.

Need and Proposed Use of the Information: All parts of the Ryan White HIV/AIDS Program specify HRSA's responsibilities in administering grant funds, allocating funds, evaluating programs for the populations served, and improving quality of care. Accurate records of the providers receiving Ryan White HIV/AIDS Program funding, the clients served, and services provided continue to be critical issues for the implementation of the legislation and are necessary for HRSA to fulfill its responsibilities.

The RSR provides data on the characteristics of Ryan White HIV/AIDS Program-funded grantees, their contracted service providers, and the clients served with program funds. The RSR is intended to support clinical quality management, performance measurement, service delivery, and client monitoring at the systems and client levels. The reporting systems consist of two online data forms, the Grantee Report and the Service Provider Report, as well as a data file containing the client-level data elements. Data are submitted annually.

The statute specifies the importance of grantee accountability and linking performance to budget. The RSR is used to ensure compliance with the requirements of the statute, to evaluate the progress of programs, to monitor grantee and provider performance, and to meet reporting responsibilities to the Department, Congress, and OMB.

In addition to meeting the goal of accountability to Congress, clients, advocacy groups, and the general public, information collected through the RSR is critical for HRSA, state and local grantees, and individual providers to assess the status of existing HIV related service delivery systems, investigate trends in service utilization, and identify areas of greatest need.

On April 11, 2012, a memo from the Secretary of the Department of Health and Human Services (HHS) directed HRSA, along with other Health and Human Services Operating Divisions (OpDivs) to work together to: (1) Identify seven common core HIV/AIDS indicators; (2) develop implementation plans to deploy these indicators; and (3) streamline data collection; and reduce reporting by at least 20 to 25 percent. In November 2012, the HIV/AIDS Indicators Implementation Group (HAIIG) comprised of representatives from HHS OpDivs, the Department of Housing and Urban Development, the Veterans' Health Administration, and community partners successfully identified the required common core HIV/AIDS indicators.

Revisions to the RSR are required to support implementation of the core indicators, streamline data collection, and reduce reporting burden. Nine data elements will be deleted from the RSR and 22 variables will be modified to reduce reporting burden. Two new data elements will be added to the RSR: (1) Date of client's confidential confirmatory HIV test with a positive result in the reporting period; and (2) date of client's first outpatient ambulatory medical care visit after positive HIV test. These data elements are required to deploy the Linkage to HIV Medical Care core indicator. Another data element, Sex at Birth, defined to the biological sex assigned to the client at birth, will be added to align with variables collected by other HHS OpDivs.

In addition to the new data elements noted above, other new variables will be added to the RSR to address provisions set forth in Section 4302 of the Affordable Care Act. The Affordable Care Act includes several provisions aimed at eliminating health disparities in America. Section 4302 (Understanding health disparities: Data Collection and Analysis) of the Affordable Care Act focuses on the standardization, collection, analysis, and reporting of health disparities data. Section 4302 requires the Secretary of HHS to establish data collection standards for race, ethnicity, and sex. The race/ethnicity data elements include reporting of Hispanic, Asian, and Native Hawaiian/Pacific Islander subgroups. The categories for HHS data standards for race and ethnicity are based on the disaggregation of the OMB standard used in the American Community Survey (ACS) and the 2000 and 2010 Decennial Census. The subgroup categories can be rolled-up to the OMB standard. These new data elements will be used in data analysis intended to identify and understand health disparities.

Likely Respondents: Ryan White HIV/AIDS Program Part A, Part B, Part C, and Part D grantees and their contracted service providers.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Grantee Report | 595 | 1 | 595 | 7 | 4,165
Provider Report | 1793 | 1 | 1793 | 17 | 30,481
Client Report | 1312 | 1 | 1312 | 67 | 87,904
Total | 3700 |  | 3700 | 91 | 122,550

Dated: March 26, 2014.
Jackie Painter,
Deputy Director, Division of Policy and Information Coordination.

[FR Doc. 2014-07491 Filed 4-3-14; 8:45 am]

BILLING CODE 4165-15-P